SMALL BUSINESS ADMINISTRATION

[Disaster Declaration # 10222 and # 10223]

Florida Disaster Number FL-00011

AGENCY: Small Business Administration.

ACTION: Amendment 1.

SUMMARY: This is an amendment of the Presidential declaration of a major disaster for the State of Florida (FEMA-1609-DR), dated 10/24/2005.

Incident: Hurricane Wilma.

Incident Period: 10/23/2005 and continuing.

Effective Date: 10/26/2005.

Physical Loan Application Deadline Date: 12/23/2005.

EIDL Loan Application Deadline Date: 07/24/2006.

ADDRESSES: Submit completed loan applications to: Small Business Administration, National Processing and Disbursement Center, 14925 Kingsport Road, Fort Worth, TX 76155.

FOR FURTHER INFORMATION CONTACT: A. Escobar, Office of Disaster Assistance, U.S. Small Business Administration, 409 3rd Street, Suite 6050, Washington, DC 20416.

SUPPLEMENTARY INFORMATION: The notice of the Presidential disaster declaration for the State of Florida, dated 10/24/2005, is hereby amended to include the following areas as adversely affected by the disaster:

Primary Counties:

Broward, Glades, Hendry, Miami-Dade, Martin, Palm Beach, and St. Lucie.

Contiguous Counties:

Florida: De Soto, Highlands, Indian River, and Okeechobee.

All other information in the original declaration remains unchanged.

(Catalog of Federal Domestic Assistance Numbers 59002 and 59008)
Cheri L. Cannon,
Acting Associate Administrator for Disaster Assistance.

[FR Doc. 05-21958 Filed 11-2-05; 8:45 am]

BILLING CODE 8025-01-P